DEPARTMENT OF TRANSPORTATION

Federal Highway Administration

Environmental Impact Statement: New London County, CO

Correction

Notice document 07-4127 appearing on page 47122 in the issue of Wednesday, August 22, 2007 duplicates a document appearing on page 47119 and should not have been published.

[FR Doc. C7-4127 Filed 12-26-07; 8:45 am]

BILLING CODE 1505-01-D

DEPARTMENT OF THE TREASURY

Office of Thrift Supervision

12 CFR Part 584

[Docket ID OTS-2007-0007]

1550-AC10

Permissible Activities of Savings and Loan Holding Companies

Correction

In rule document E7-24676 beginning on page 72235 in the issue of Thursday, December 20, 2007 make the following correction:

On page 72235, in the second column, under DATES, “April, 2008” should read “April 1, 2008”.

[FR Doc. Z7-24676 Filed 12-26-07; 8:45 am]

BILLING CODE 1505-01-D